DEPARTMENT OF LABOR

Employment and Training Administration

[TA-W-65,870]

Samuel Aaron International, Long Island City, NY; Notice of Termination of Investigation

Pursuant to Section 221 of the Trade Act of 1974, as amended, an investigation was initiated on April 30, 2009 in response to a petition filed on behalf of workers of Samuel Aaron International, Long Island City, New York.

The petitioner has requested that the petition be withdrawn. Therefore, the investigation under this petition has been terminated.

Signed at Washington, DC, this 21st day of May 2009.
Linda G. Poole,
Certifying Officer, Division of Trade Adjustment Assistance.

[FR Doc. E9-15300 Filed 6-26-09; 8:45 am]

BILLING CODE 4510-FN-P